DEPARTMENT OF COMMERCE

International Trade Administration

[A-549-837]

Glycine From Thailand: Antidumping Duty Order

AGENCY: Enforcement and Compliance, International Trade Administration, Department of Commerce.

SUMMARY: Based on affirmative final determinations by the Department of Commerce (Commerce) and the International Trade Commission (ITC), Commerce is issuing an antidumping duty order on glycine from Thailand.

DATES: Applicable October 18, 2019.

FOR FURTHER INFORMATION CONTACT: Brian Smith at (202) 482-1766 or Jesus Saenz at (202) 482-8184, AD/CVD Operations, Enforcement and Compliance, International Trade Administration, U.S. Department of Commerce, 1401 Constitution Avenue NW, Washington, DC 20230.

SUPPLEMENTARY INFORMATION:

Background

On August 5, 2019, Commerce published its affirmative final determination in the less-than-fair-value (LTFV) investigation of glycine from Thailand.¹ On October 8, 2019, the ITC notified Commerce of its final affirmative determination, pursuant to section 735(d) of the Tariff Act of 1930, as amended (the Act), that an industry in the United States is materially injured within the meaning of section 735(b)(1)(A)(i) of the Act by reason of LTFV imports of glycine from Thailand.² Further, the ITC determined that critical circumstances do not exist with respect to LTFV imports of glycine from Thailand.

¹ See Glycine from Thailand: Final Determination of Sales at Less Than Fair Value and Final Affirmative Determination of Critical Circumstances in Part, 84 FR 37998 (August 5, 2019) (Final Determination).

² See ITC Notification Letter to the Deputy Assistant Secretary for Enforcement and Compliance, referencing ITC Investigation No. 731-TA-1415 (October 8, 2019) (ITC Notification).

Scope of the Order

The product covered by this order is glycine from Thailand. For a complete description of the scope of this order, see the Appendix to this notice.

Antidumping Duty Order

On October 8, 2019, in accordance with sections 735(b)(1)(A)(i) and 735(d) of the Act, the ITC notified Commerce of its final determination in this investigation, in which it found that an industry in the United States is materially injured by reason of imports of glycine from Thailand.³ As a result, and in accordance with sections 735(c)(2) and 736 of the Act, Commerce is issuing and publishing this antidumping duty order. Because the ITC determined that imports of glycine from Thailand are materially injuring a U.S. industry, Commerce will instruct U.S. Customs and Border Protection (CBP) to assess antidumping duties on the subject merchandise from Thailand.

³ Id.

As a result of the ITC Notification, in accordance with section 736(a) of the Act, Commerce will direct CBP to assess, upon further instruction by Commerce, antidumping duties equal to the amount by which the normal value of the merchandise exceeds the export price (or constructed export price) of the merchandise, for all relevant entries of glycine from Thailand. Antidumping duties will be assessed on unliquidated entries of glycine from Thailand entered, or withdrawn from warehouse, for consumption on or after August 5, 2019, the date of publication of the Final Determination.⁴

⁴ See Final Determination.

Continuation of Suspension of Liquidation

In accordance with section 735(c)(1)(B) and (C) and section 736 of the Act, Commerce will instruct CBP to continue to suspend liquidation on all relevant entries of glycine from Thailand. We intend to instruct CBP to require, at the same time as importers would normally deposit estimated import duties on this merchandise, cash deposits of estimated antidumping duties for each entry of subject merchandise equal to the rates noted below. The all-others rate applies to all other producers or exporters not specifically listed. These instructions suspending liquidation will remain in effect until further notice.

Critical Circumstances

The ITC found no critical circumstances on LTFV imports of glycine from Thailand. Accordingly, we will instruct CBP to lift suspension and to refund all cash deposits made to secure the payment of estimated antidumping duties with respect to entries of glycine from Thailand entered, or withdrawn from warehouse, for consumption on or after May 7, 2019 (i.e., 90 days prior to the date of publication of the Final Determination), but before August 5, 2019 (i.e., the date of publication of the Final Determination).

Estimated Weighted-Average Dumping Margins

The estimated weighted-average antidumping duty margins are as follows:

Exporter or producer | Estimated weighted- average dumping margin (percent)
Newtrend Food Ingredient (Thailand) Co., Ltd | 227.17
All Others | 201.59

Notifications to Interested Parties

This notice constitutes the antidumping duty order with respect to glycine from Thailand pursuant to section 736(a) of the Act. Interested parties can find a list of antidumping duty orders currently in effect at http://enforcement.trade.gov/stats/iastatsl.html.

This order is published in accordance with section 736(a) of the Act and 19 CFR 351.211(b).

Dated: October 10, 2019.
Jeffrey I. Kessler,
Assistant Secretary for Enforcement and Compliance.

Appendix

Scope of the Order

The merchandise covered by this order is glycine at any purity level or grade. This includes glycine of all purity levels, which covers all forms of crude or technical glycine including, but not limited to, sodium glycinate, glycine slurry and any other forms of amino acetic acid or glycine. Subject merchandise also includes glycine and precursors of dried crystalline glycine that are processed in a third country, including, but not limited to, refining or any other processing that would not otherwise remove the merchandise from the scope of this order if performed in the country of manufacture of the in-scope glycine or precursors of dried crystalline glycine. Glycine has the Chemical Abstracts Service (CAS) registry number of 56-40-6. Glycine and glycine slurry are classified under Harmonized Tariff Schedule of the United States (HTSUS) subheading 2922.49.43.00. Sodium glycinate is classified in the HTSUS under 2922.49.80.00. While the HTSUS subheadings and CAS registry number are provided for convenience and customs purposes, the written description of the scope of this order is dispositive.

[FR Doc. 2019-22764 Filed 10-17-19; 8:45 am]

BILLING CODE 3510-DS-P